NATIONAL AERONAUTICS AND SPACE ADMINISTRATION

[Notice 04-016]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: January 29, 2004.

FOR FURTHER INFORMATION CONTACT: Kent N. Stone, Patent Counsel, Glenn Research Center at Lewis Field, Code 500-118, Cleveland, OH 44135; telephone (216) 433-8855; fax (216) 433-6790.

NASA Case No. LEW-17293-2: Software for System for Controlling a Magnetically Levitated Rotor;

NASA Case No. LEW-17345-1: Temporal Laser Pulse Manipulation Using Multiple Optical Ring-Cavities;

NASA Case No. LEW-17429-1: Inert Processing of Cyclohexene Endcaps for Polymers With Improved Thermal Oxidative Stability;

NASA Case No. LEW-17494-1: Self-Sealing, Smart, Variable Area Nozzle (S3VAN) for Dynamic Flow Control In Gas Turbine Engines;

NASA Case No. LEW-17510-1: Torsional Magnetorheological Fluid Resistant Device (TMRFRD).

Dated: January 21, 2004.
Robert M. Stephens,
Deputy General Counsel.

[FR Doc. 04-1851 Filed 1-28-04; 8:45 am]

BILLING CODE 7510-01-P